DEPARTMENT OF JUSTICE

Antitrust Division

Notice Pursuant to the National Cooperative Research and Production Act of 1993; ControlNet International, Ltd.

Notice is hereby given that, on May 18, 2005, pursuant to Section 6(a) of the National Cooperative Research and Production Act of 1993, 15 U.S.C. 4301 et seq. (“the Act”), ControlNet International, Ltd. (“ControlNet”) has filed written notifications simultaneously with the Attorney General and the Federal Trade Commission disclosing changes in its membership. The notifications were filed for the purpose of extending the Act's provisions limiting the recovery of antitrust plaintiffs to actual damages under specified circumstances. Specifically, Parker-Hannifin Corporation, Cleveland, OH has been added as a party to this venture. The following member has changed its name: Belden Wire & Cable to Belden CDT Electronics Division, Richmond, IN.

No other changes have been made in either the membership or planned activity of the group research project. Membership in this group research project remains open, and ControlNet intends to file additional written notification disclosing all changes in membership.

On February 3, 2005, ControlNet filed its original notification pursuant to Section 6(a) of the Act. The Department of Justice published a notice in the Federal Register pursuant to Section 6(b) of the Act on March 1, 2005 (70 FR 9979).

Dorothy B. Fountain
Deputy Director of Operations Antitrust Division

[FR Doc. 05-11600 Filed 6-10-05; 8:45 am]

BILLING CODE 4410-11-M